DEPARTMENT OF COMMERCE

Foreign-Trade Zones Board

[S-215-2022]

Foreign-Trade Zone 18—San Jose, California, Application for Subzone, Tesla, Inc., Oakland, California

An application has been submitted to the Foreign-Trade Zones (FTZ) Board by the City of San Jose, grantee of FTZ 18, requesting an expansion of Subzone 18G on behalf of Tesla, Inc., located in Oakland, California. The application was submitted pursuant to the provisions of the Foreign-Trade Zones Act, as amended (19 U.S.C. 81a-81u), and the regulations of the FTZ Board (15 CFR part 400). It was formally docketed on December 7, 2022.

The applicant is now requesting to expand Subzone 18G to include an additional site: Site 25 (8.79 acres)—8350 Pardee Drive, Oakland, Alameda County. The expanded subzone would be subject to the existing activation limit of FTZ 18.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is January 23, 2023. Rebuttal comments in response to material submitted during the foregoing period may be submitted during the subsequent 15-day period to February 6, 2023.

A copy of the application will be available for public inspection in the “Online FTZ Information Section” section of the FTZ Board's website, which is accessible via www.trade.gov/ftz.

For further information, contact Qahira El-Amin at Qahira.El-Amin@trade.gov.

Dated: December 7, 2022.
Andrew McGilvray,
Executive Secretary.

[FR Doc. 2022-26988 Filed 12-12-22; 8:45 am]

BILLING CODE 3510-DS-P